DEPARTMENT OF HEALTH AND HUMAN SERVICES

Administration for Children and Families

Notice of Correction for Demonstration Projects That Improve Child Well-Being by Fostering Healthy Marriages Within Underserved Communities

AGENCY: Children's Bureau, Administration on Children, Youth and Families, Administration for Children and Families, Department of Health and Human Services.

Funding Opportunity Title: Demonstration Projects that Improve Child Well-Being by Fostering Healthy Marriages Within Underserved Communities.

ACTION: Notice of correction.

Funding Opportunity Number: HHS-2005-ACF-ACYF-CA-0089.

SUMMARY: This notice is to inform interested parties of corrections made to the Demonstration Projects that Improve Child Well-Being by Fostering Healthy Marriages Within Underserved Communities program announcement that published on June 8, 2005. The following corrections should be noted:

Under Section III. 1 Eligible Applicants, following ‘Non-profits that do not have 501 (c) (3) status with the IRS, other than institutions of higher education please add the following eligible applicants: Native American tribal governments (Federally recognized) and Native American tribal organizations (other than Federally recognized tribal governments).

The final list of eligible applicants for this announcement should read:

“1. Eligible Applicants:

State governments

County governments

City or township governments

Special district governments

Independent school districts

Non-profits having a 501(c)(3) status with the IRS, other than institutions of higher education

Non-profits that do not have a 501(c)(3) status with the IRS, other than institutions of higher education

Native American tribal governments (Federally recognized)

Native American tribal organizations (other than Federally recognized tribal governments)

Under Section III.1 Eligible Applicants, Additional Information on Eligibility, please modify the first sentence from:

Applicants, and their partner organizations (if any), must have experience and background in working with children and families in the targeted minority community”.

To:

Applicants, and their partner organizations (if any), must have experience and background in working with children and families in the targeted underserved community.

Also under Section III.1 Eligible Applicants, Additional Information on Eligibility please modify the fourth sentence from:

Applicants must have a demonstrated capacity to engage children and families in the targeted minority community who are at risk of entering, or are already in the child welfare system.”

To:

Applicants must have a demonstrated capacity to engage children and families in the targeted underserved community who are at risk of entering, or are already in the child welfare system.

The only changes to the Demonstration Projects that Improve Child Well-Being by Fostering Healthy Marriages Within Underserved Communities program announcement are explicitly stated in this Notice of Correction. All applications must still be sent on or before the deadline date of August 8, 2005.

For further information please contact Julie Lee at (202) 205-8640.

Dated: June 30, 2005.
Frank Fuentes,
Acting Commissioner, Administration on Children, Youth and Families.

[FR Doc. 05-13687 Filed 7-11-05; 8:45 am]

BILLING CODE 4184-01-P